DEPARTMENT OF THE INTERIOR

Fish and Wildlife Service

[FWS-R2-ES-2012-N028; FXES11130200000F5-112-FF02ENEH00]

Emergency Exemption; Issuance of Emergency Permit To Salvage Houston Toads Affected by a Wildfire in Bastrop County, TX

AGENCY: Fish and Wildlife Service, Interior.

ACTION: Notice of issuance of endangered species emergency permit.

SUMMARY: Between September 4 and October 10, 2011, more than 34,000 acres burned in Bastrop County, Texas, much of which was habitat for the endangered Houston toad. The Houston toad usually emerges and becomes active at the end of January or in early February. Without authorized personnel to salvage individuals, the ongoing Federal Emergency Management Agency (FEMA) clean-up may be delayed or Houston toads may be needlessly harmed or killed. We, the U.S. Fish and Wildlife Service have authorized researchers employed by FEMA, under an Endangered Species Act (ESA) permit, to survey for, collect, and relocate Houston toads that may be affected by the FEMA clean-up.

ADDRESSES: Documents and other information concerning the permit are available for review, subject to the requirements of the Privacy Act and Freedom of Information Act. Documents will be available for public inspection, by appointment only, during normal business hours at the U.S. Fish and Wildlife Service, 500 Gold Ave. SW., Room 6034, Albuquerque, NM 87103.

FOR FURTHER INFORMATION CONTACT: Susan Jacobsen, Chief, Endangered Species Division, P.O. Box 1306, Albuquerque, NM 87103; (505) 248-6920.

SUPPLEMENTARY INFORMATION: The Federal Emergency Management Agency (FEMA) clean-up in Bastrop County, Texas, after the September 4 through October 10, 2011, fire may be delayed or the endangered Houston toad (Bufo houstonensis) may be needlessly harmed or killed without authorized personnel to salvage individuals. Because the Houston toad usually emerges and becomes active at the end of January or in early February, we, the U.S. Fish and Wildlife Service have authorized Jacob T. Jackson and James H. Bell (TE-64710A), under an Endangered Species Act (ESA) permit, to immediately aid Houston toads that may be affected by the FEMA clean-up. Efforts to salvage adults, juveniles, tadpoles, or egg masses are currently taking place and will continue on an ongoing basis until the FEMA clean-up is completed.

Salvage of Houston toads may include the following activities: collect as adults, juveniles, tadpoles, or eggs from areas or under conditions that will likely result in their dessication or destruction; transport to the Welsh property in Bastrop County, Texas, and release into exclosures or the headstarting facility until they can be returned to the wild; or transported to the Houston toad captive breeding or captive assurance colony at the Houston Zoo.

Authority: 16 U.S.C. 1531 et seq.

Dated: February 2, 2012.
Joy E. Nicholopoulos,
Acting Regional Director, Southwest Region, Fish and Wildlife Service.

[FR Doc. 2012-2954 Filed 2-8-12; 8:45 am]

BILLING CODE 4310-55-P